SECURITIES AND EXCHANGE COMMISSION

[File No. 500-1]

Advanced Optics Electronics, Inc.; Order of Suspension of Trading

March 2, 2011.

It appears to the Securities and Exchange Commission that there is a lack of current and accurate information concerning the securities of Advanced Optics Electronics, Inc. because it has not filed any periodic reports since the period ended March 31, 2007.

The Commission is of the opinion that the public interest and the protection of investors require a suspension of trading in Advanced Optics Electronics, Inc. Therefore, it is ordered, pursuant to Section 12(k) of the Securities Exchange Act of 1934, that trading in the securities of the above-listed company is suspended for the period from 9:30 a.m. EST on March 2, 2011, through 11:59 p.m. EDT on March 15, 2011.

By the Commission.
Jill M. Peterson,
Assistant Secretary.

[FR Doc. 2011-5038 Filed 3-2-11; 4:15 pm]

BILLING CODE 8011-01-P